DEPARTMENT OF HEALTH AND HUMAN SERVICES

Food and Drug Administration

Medwatch/MDR/FDA Website Navigation; Public Meeting

AGENCY: Food and Drug Administration, HHS.

ACTION: Notice of public meeting.

The Food and Drug Administration (FDA) is announcing the following public meeting: Medwatch/Medical Device Reporting (MDR)/FDA Website Navigation. The topics to be discussed are the Medwatch Program, medical device reporting, and the navigation of the FDA website. This public meeting is intended to familiarize the attendees with the Medwatch Program, provide information on the regulations associated with the mandatory medical device reporting system, and furnish training on the navigation of the FDA website.

Date and Time: The public meeting will be held on April 7, 2000, from 9 a.m. to 12 noon.

Location: The public meeting will be held at the Mercy Medical Center Auditorium, 2175 Rosaline Ave., Redding, CA 96049.

Contact: Mary E. Taylor, Food and Drug Administration, 1431 Harbor Bay Pkwy., Alameda, CA 94502-7070, 510-337-6888, FAX 510-337-6708, e-mail: mtaylor1@ora.fda.gov.

Registration: Send registration information (including name, title, firm name, address, telephone, and fax number) to the contact person by March 30, 2000.

If you need special accommodations due to a disability, please contact Mary E. Taylor at least 7 days in advance.

Dated: March 6, 2000.
William K. Hubbard,
Senior Associate Commissioner for Policy, Planning, and Legislation.

[FR Doc. 00-5968 Filed 3-10-00; 8:45 am]

BILLING CODE 4160-01-F